DEPARTMENT OF DEFENSE

Office of the Secretary

Submission for OMB Review; Comment Request

ACTION: Notice.

The Department of Defense has submitted to OMB for clearance, the following proposal for collection of information under the provisions of the Paperwork Reduction Act (44 U.S.C. Chapter 35).

Title and OMB Number: Defense Federal Acquisition Regulation Supplement (DFARS) Supplement Part 223, Environment, Conservation, and Occupational Safety, and Related Clauses at DFARS Part 252; OMB Number 0704-0272.

Type of Request: Extension.

Number of Respondents: 8,873.

Responses Per Respondent: 1.66.

Annual Responses: 14,726.

Average Burden Per Response: 0.68 hours.

Annual Burden Hours: 9,997.

Needs and Uses: This information collection requires that an offeror/contractor provide information in response to solicitation provisions and contract clauses in DFARS 252.223, excluding those provisions and clauses relating to a drug-free workplace (which are approved under OMB Control Number 0704-0336). DoD contracting officers use this information to: (1) Verify compliance with requirements for labeling of hazardous material; (2) Ensure contractor compliance and monitor subcontractor compliance with DoD 4145.26-M, DoD Contractors' Safety Manual for Ammunition and Explosives, and minimize risk of mishaps; (3) Identify the place of performance of all ammunition and explosives work; and, (4) Ensure contractor compliance and monitor subcontractor compliance with DoD 5100.76-M, Physical Security of Sensitive Conventional Arms, Ammunition, and Explosives.

Affected Public: Business or Other For-Profit; Not-for-Profit Institutions.

Frequency: On Occasion.

Respondents Obligation: Required to Obtain or Retain Benefits.

OMB Desk Officer: Mr. David M. Pritzker.

Written comments and recommendations on the proposed information collection should be sent to Mr. Pritzker at the Office of Management and Budget, Desk Officer for DoD, Room 10236, New Executive Office Building, Washington, DC 20503.

DOD Clearance Officer: Mr. Robert Cushing.

Written requests for copies of the information collection proposal should be sent to Mr. Cushing, WHS/DIOR, 1215 Jefferson Davis Highway, Suite 1204, Arlington, VA 22202-4302.

Dated: May 25, 2001.
Patricia L. Toppings,
Alternate OSD Federal Register Liaison Officer, Department of Defense.

[FR Doc. 01-13747 Filed 5-31-01; 8:45 am]

BILLING CODE 5001-08-M